DEPARTMENT OF COMMERCE

International Trade Administration

[A-351-837, A-533-828, A-588-068, A-580-852, A-201-831, A-549-820, C-533-829]

Prestressed Concrete Steel Wire Strand From Brazil, India, Japan, the Republic of Korea, Mexico, and Thailand: Continuation of the Antidumping Duty Finding/Orders and Countervailing Duty Order

AGENCY: Enforcement and Compliance, International Trade Administration, Department of Commerce.

SUMMARY: As a result of the determinations by the Department of Commerce (Commerce) and the U.S. International Trade Commission (ITC) in their five year (sunset) reviews that revocation of the antidumping duty (AD) finding on prestressed concrete steel wire strand (PC strand) from Japan, and the AD orders on PC strand from Brazil, India, the Republic of Korea (Korea), Mexico, and Thailand (hereafter referred to as the six countries) would likely lead to a continuation or recurrence of dumping and material injury to an industry in the United States, and that revocation of the countervailing duty (CVD) order on PC strand from India would likely lead to continuation of recurrence of net countervailable subsidies and material injury to an industry in the United States, Commerce is publishing a notice of continuation of the AD finding/orders on PC strand from the six countries and the CVD order on PC strand from India.

DATES: Applicable November 9, 2020.

FOR FURTHER INFORMATION CONTACT: Samantha Kinney or Brian Smith, AD/CVD Operations, Office VIII, Enforcement and Compliance, International Trade Administration, U.S. Department of Commerce, 14th Street and Constitution Avenue NW, Washington, DC 20230; telephone: (202) 482-2285 or (202) 482-1766, respectively.

SUPPLEMENTARY INFORMATION:

Background

On December 8, 1978, and January 28, 2004, Commerce published in the Federal Register notices of the AD finding on PC strand from Japan and of the AD orders on PC strand from Brazil, India, Mexico, Korea, and Thailand, respectively.¹ On February 4, 2004, Commerce published the CVD order on PC strand from India in the Federal Register.² On March 2, 2020, Commerce initiated ³ and the ITC instituted ⁴ sunset reviews of the AD Finding/Orders on PC strand from the six countries and the CVD Order on PC strand from India, pursuant to section 751(c) of the Tariff Act of 1930, as amended (the Act). As a result of its review, Commerce determined that revocation of the AD Finding/Orders on PC strand from the six countries would likely lead to a continuation or recurrence of dumping and that revocation of the CVD Order on PC strand from India would likely lead to continuation or recurrence of net countervailable subsidies, and therefore, notified the ITC of the magnitude of the margins of dumping and the subsidy rates likely to prevail should the finding/orders be revoked.⁵

¹ See Steel Wire Strand for Prestressed Concrete from Japan; Finding of Dumping, 43 FR 57599 (December 8, 1978) conducted by the Treasury Department (at the time a determination of dumping resulted in a “finding” rather than the later applicable “order”); see also Notice of Antidumping Duty Order: Prestressed Concrete Steel Wire Strand from Brazil, 69 FR 4112 (January 28, 2004); Notice of Antidumping Duty Order: Prestressed Concrete Steel Wire Strand from India, 69 FR 4110 (January 28, 2004); Notice of Antidumping Duty Order: Prestressed Concrete Steel Wire Strand from the Republic of Korea, 69 FR 4109 (January 28, 2004); Notice of Antidumping Duty Order: Prestressed Concrete Steel Wire Strand from Mexico, 69 FR 4112 (January 28, 2004); and Notice of Amended Final Determination of Sales at Less Than Fair Value and Antidumping Duty Order: Prestressed Concrete Steel Wire Strand from Thailand, 69 FR 4111 (January 28, 2004). The AD finding on Japan and the AD orders on Brazil, India, Mexico, Korea, and Thailand are collectively referred to as AD Finding/Orders for purposes of this notice.

² See Notice of Countervailing Duty Order: Prestressed Concrete Steel Wire Strand from India, 69 FR 5319 (February 4, 2004) (CVD Order).

³ See Initiation of Five-Year (Sunset) Reviews, 85 FR 12253 (March 2, 2020).

⁴ See Prestressed Concrete Steel Wire Strand from Brazil, India, Japan, Korea, Mexico, and Thailand; Institution of Five-Year Reviews, 85 FR 12331 (March 2, 2020).

⁵ See Prestressed Concrete Steel Wire Strand from Brazil, India, Japan, Mexico, Republic of Korea and Thailand: Final Results of Expedited Sunset Reviews of the Antidumping Duty Finding and Orders, 85 FR 39164 (June 30, 2020); see also Prestressed Concrete Steel Wire Strand from India: Final Results of Expedited Sunset Review of Countervailing Duty Order, 85 FR 38846 (June 29, 2020).

On November 3, 2020, the ITC published its determination, pursuant to sections 751(c) and 752(a) of the Act, that revocation of the AD Finding/Orders on PC strand from the six countries, and the CVD Order on PC strand from India would likely lead to a continuation or recurrence of material injury to an industry in the United States within a reasonably foreseeable time.⁶

⁶ See Prestressed Concrete Steel Wire Strand from Brazil, India, Japan, Korea, Mexico, and Thailand, 85 FR 69643 (November 3, 2020).

Scope of the Order

The product covered in the sunset reviews of the AD orders on PC strand from Brazil, India, Korea, Mexico, and Thailand, and the CVD Order on PC strand from India is steel strand produced from wire of non-stainless, non-galvanized steel, which is suitable for use in prestressed concrete (both pre-tensioned and post-tensioned) applications. The product definition encompasses covered and uncovered strand and all types, grades, and diameters of PC strand.

The product covered in the sunset review of the AD finding on PC strand from Japan is steel wire strand, other than alloy steel, not galvanized, which is stress-relieved and suitable for use in prestressed concrete.

The merchandise subject to the AD Finding/Orders on PC strand from the six countries and the CVD order on PC strand from India is currently classifiable under subheadings 7312.10.3010 and 7312.10.3012 of the Harmonized Tariff Schedule of the United States (HTSUS). Although the HTSUS subheadings are provided for convenience and customs purposes, the written description of the merchandise is dispositive.

Continuation of the Orders

As a result of the determinations by Commerce and the ITC that revocation of the AD Finding/Orders on PC strand from the six countries would likely lead to a continuation or recurrence of dumping, and of material injury to an industry in the United States, and that revocation of the CVD Order on PC strand from India would likely lead to continuation or recurrence of countervailable subsidies and material injury to an industry in the United States, pursuant to section 751(d)(2) of the Act and 19 CFR 351.218(a), Commerce hereby orders the continuation of the AD finding on PC strand from Japan, the AD orders on PC strand from Brazil, India, Korea, Mexico, and Thailand, and the CVD Order on PC strand from India. U.S. Customs and Border Protection will continue to collect AD and CVD cash deposits at the rates in effect at the time of entry for all imports of subject merchandise.

The effective date of the continuation of the AD Finding/Orders and CVD Order will be the date of publication in the Federal Register of this notice of continuation. Pursuant to section 751(c)(2) of the Act and 19 CFR 351.218(c)(2), Commerce intends to initiate the next five-year review of the finding/orders not later than 30 days prior to the fifth anniversary of the effective date of this continuation notice.

Notification to Interested Parties

These five-year sunset reviews and this notice are in accordance with section 751(c) of the Act and published pursuant to 777(i) of the Act, and 19 CFR 351.218(f)(4).

Dated: November 3, 2020.
Jeffrey I. Kessler,
Assistant Secretary for Enforcement and Compliance.

[FR Doc. 2020-24834 Filed 11-6-20; 8:45 am]

BILLING CODE 3510-DS-P